DEPARTMENT OF TRANSPORTATION

Federal Aviation Administration

14 CFR Part 39

[Docket No. FAA-2020-0905; Project Identifier 2019-SW-102-AD; Amendment 39-21384; AD 2021-02-01]

RIN 2120-AA64

Airworthiness Directives; Airbus Helicopters

AGENCY: Federal Aviation Administration (FAA), Department of Transportation (DOT).

ACTION: Final rule.

SUMMARY: The FAA is superseding Airworthiness Directive (AD) 2015-26-01, which applied to certain Airbus Helicopters Model AS332C1, AS332L1, AS332L2, EC225LP, AS-365N2, AS 365 N3, EC 155B, and EC155B1 helicopters with an energy-absorbing seat. AD 2015-26-01 required inspecting for the presence of labels (placards) that prohibit stowing anything under the seat, and if a label (placard) is missing or not clearly visible to each occupant, installing a label (placard). This AD retains all of the requirements of AD 2015-26-01, and also adds helicopters to the applicability and requires a modification (installing new labels (placards)). This AD was prompted by the determination that additional helicopters are affected by the unsafe condition, and that new labels (placards) are required for all affected helicopters. The FAA is issuing this AD to address the unsafe condition on these products.

DATES: This AD is effective April 6, 2021.

The Director of the Federal Register approved the incorporation by reference of certain publications listed in this AD as of April 6, 2021.

The Director of the Federal Register approved the incorporation by reference of certain other publications listed in this AD as of January 26, 2016 (80 FR 79466, December 22, 2015).

ADDRESSES: For service information identified in this final rule, contact Airbus Helicopters, 2701 N Forum Drive, Grand Prairie, TX 75052; phone: 972-641-0000 or 800-232-0323; fax: 972-641-3775; or at https://www.airbus.com/helicopters/services/support.html. You may view this referenced service information at the FAA, Office of the Regional Counsel, Southwest Region, 10101 Hillwood Pkwy., Room 6N-321, Fort Worth, TX 76177. For information on the availability of this material at the FAA, call 817-222-5110. It is also available on the internet at https://www.regulations.gov by searching for and locating Docket No. FAA-2020-0905.

Examining the AD Docket

You may examine the AD docket on the internet at https://www.regulations.gov by searching for and locating Docket No. FAA-2020-0905; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Aviation Safety Engineer, Large Aircraft Section, International Validation Branch, FAA, 2200 South 216th St., Des Moines, WA 98198; phone and fax: 206-231-3218; email: kathleen.arrigotti@faa.gov.

SUPPLEMENTARY INFORMATION:

Discussion

The FAA issued a notice of proposed rulemaking (NPRM) to amend 14 CFR part 39 to supersede AD 2015-26-01, Amendment 39-18349 (80 FR 79466, December 22, 2015) (AD 2015-26-01). AD 2015-26-01 applied to certain Airbus Helicopters Model AS332C1, AS332L1, AS332L2, EC225LP, AS-365N2, AS 365 N3, EC 155B, and EC155B1 helicopters with an energy-absorbing seat. The NPRM published in the Federal Register on October 7, 2020 (85 FR 63240). The NPRM was prompted by the discovery that required labels (placards) prohibiting stowage of any object under an energy-absorbing seat had not been systematically installed and the determination that additional helicopters are affected by the unsafe condition, and that new labels (placards) are required for all affected helicopters. The NPRM proposed to continue to require inspecting for the presence of labels (placards) that prohibit stowing anything under the seat, and if a label (placard) is missing or not clearly visible to each occupant, installing a label (placard), and also proposed to add helicopters to the applicability and require a modification (installing new labels (placards)). The FAA is issuing this AD to address any object stowed under an energy-absorbing seat, which could reduce the efficiency of the energy-absorbing function of the seat, resulting in injury to the seat occupants during an accident. See the MCAI for additional background information.

The European Union Aviation Safety Agency (EASA), which is the Technical Agent for the Member States of the European Union, has issued EASA AD 2019-0088R1, dated November 8, 2019 (EASA AD 2019-0088R1) (also referred to as the Mandatory Continuing Airworthiness Information, or the MCAI), to correct an unsafe condition for certain Airbus Helicopters Model AS332C, AS332C1, AS332L, AS332L1, AS332L2, EC225LP, AS-365N2, AS 365 N3, EC 155B and EC155B1 helicopters with an energy-absorbing seat. EASA advised that during certification of an energy-absorbing seat with a new part number, the labels (placards) that require keeping the space under the seat free of any object were not systematically installed. EASA stated that this condition, if not corrected, could prompt occupants to stow objects under an energy-absorbing seat, which would reduce the effectiveness of the seat and the occupants' chance of surviving an accident. EASA consequently issued AD 2014-0204, dated September 11, 2014; corrected September 12, 2014 (which corresponds to FAA AD 2015-26-01) to require a one-time inspection for the presence of labels (placards) and, if they were missing or unreadable, making and installing labels (placards) prohibiting the placing of an object under an energy absorbing seat. EASA later advised, in EASA AD 2017-0226, dated November 17, 2017 (EASA AD 2017-0226), which superseded EASA AD 2014-0204, that additional new labels (placards) were required and that additional helicopters were affected by the unsafe condition. In this MCAI, which supersedes EASA AD 2017-0226, EASA advised that additional extended compliance times were necessary for certain helicopters.

You may examine the MCAI in the AD docket on the internet at https://www.regulations.gov by searching for and locating Docket No. FAA-2020-0905.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

Airbus Helicopters has issued the following service information. This service information describes procedures for installing new labels (placards) prohibiting stowage of any object under an energy-absorbing seat. These documents are distinct since they apply to different helicopter models.

• Airbus Helicopters Alert Service Bulletin No. AS332-25.03.16, Revision 0, dated September 7, 2017.

• Airbus Helicopters Alert Service Bulletin No. AS332-25.03.41, Revision 0, dated September 7, 2017.

• Airbus Helicopters Alert Service Bulletin No. AS332-25.03.42, Revision 0, dated September 7, 2017.

• Airbus Helicopters Alert Service Bulletin No. AS365-25.01.67, Revision 0, dated February 12, 2019.

• Airbus Helicopters Alert Service Bulletin No. EC155-25A144, Revision 0, dated February 12, 2019.

• Airbus Helicopters Alert Service Bulletin No. EC225-25A179, Revision 1, dated November 6, 2019.

• Airbus Helicopters Alert Service Bulletin No. EC225-25A203, Revision 0, dated September 7, 2017.

Airbus Helicopters has also issued the following service information. This service information describes procedures for inspecting for labels, placards, or markings that prohibit stowing anything under certain seats and installing a placard. These documents are distinct since they apply to different helicopter models.

• Airbus Helicopters Alert Service Bulletin No. AS332-01.00.85, Revision 1, dated September 7, 2017.

• Airbus Helicopters Alert Service Bulletin No. AS365-01.00.66, Revision 1, dated February 12, 2019.

• Airbus Helicopters Alert Service Bulletin No. EC155-04A013, Revision 1, dated February 12, 2019.

• Airbus Helicopters Alert Service Bulletin No. EC225-04A012, Revision 2, dated November 6, 2019.

This AD also requires the following service information, which the Director of the Federal Register approved for incorporation by reference as of January 26, 2016 (80 FR 79466, December 22, 2015).

• Airbus Helicopters Alert Service Bulletin No. AS332-01.00.85, Revision 0, dated August 26, 2014.

• Airbus Helicopters Alert Service Bulletin No. AS365-01.00.66, Revision 0, dated August 26, 2014.

• Airbus Helicopters Alert Service Bulletin No. EC155-04A013, Revision 0, dated August 26, 2014.

• Airbus Helicopters Alert Service Bulletin No. EC225-04A012, Revision 0, dated August 26, 2014.

This service information is reasonably available because the interested parties have access to it through their normal course of business or by the means identified in the ADDRESSES section.

Other Related Service Information

Airbus Helicopters issued Airbus Helicopters Alert Service Bulletin No. EC225-04A012, Revision 1, dated September 7, 2017, which describes procedures for inspecting for labels, placards, or markings that prohibit stowing anything under certain seats and installing a placard.

Airbus Helicopters has also issued Airbus Helicopters Alert Service Bulletin No. EC225-25A179, Revision 0, dated September 7, 2017, which describes procedures for installing new labels (placards) prohibiting stowage of any object under an energy-absorbing seat.

Costs of Compliance

The FAA estimates that this AD affects 90 helicopters of U.S. registry. The FAA estimates the following costs to comply with this AD:

Estimated Costs for Required Actions
Action | Labor cost | Parts cost | Cost per product | Cost on U.S. operators
Inspection (52 Helicopters) (Retained actions from AD 2015-26-01) | 1 work-hour × $85 per hour = $85 | $0 | $85 | $4,420
Install label (placard) (52 Helicopters) (Retained actions from AD 2015-26-01) | 2 work-hours × $85 per hour = $170 | Minimal | 170 | 8,840
Inspection (38 Helicopters) (New actions) | 1 work-hour × $85 per hour = $85 | 0 | 85 | 3,230
Install label (placard) (38 Helicopters) (New actions) | 2 work-hours × $85 per hour = $170 | Minimal | 170 | 6,460
Install new label (placard) (New actions) | 2 work-hours × $85 per hour = $170 | Minimal | 170 | 15,300

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-26-01, Amendment 39-18349 (80 FR 79466, December 22, 2015), and adding the following new AD:

2021-02-01 Airbus Helicopters: Amendment 39-21384; Docket No. FAA-2020-0905; Project Identifier 2019-SW-102-AD.

(a) Effective Date

This airworthiness directive (AD) is effective April 6, 2021.

(b) Affected ADs

This AD replaces AD 2015-26-01, Amendment 39-18349 (80 FR 79466, December 22, 2015) (AD 2015-26-01).

(c) Applicability

This AD applies to Airbus Helicopters Model AS332C, AS332C1, AS332L, AS332L1, AS332L2, EC225LP, AS-365N2, AS 365 N3, EC 155B and EC155B1 helicopters, certificated in any category, equipped with at least one energy-absorbing seat listed in figure 1 to paragraph (c) of this AD, except any helicopter embodying the applicable Airbus Helicopters modifications on all applicable seat positions listed in figure 2 to paragraph (c) of this AD.

BILLING CODE 4910-13-P

BILLING CODE 4910-13-C

(d) Subject

Air Transport Association (ATA) of America Code 11, Placards and markings.

(e) Reason

This AD was prompted by the discovery that required labels (placards) prohibiting stowage of any object under an energy-absorbing seat had not been systematically installed. The FAA is issuing this AD to address any object stowed under an energy-absorbing seat which could reduce the efficiency of the energy-absorbing function of the seat, resulting in injury to the seat occupants during an accident.

(f) Compliance

Comply with this AD within the compliance times specified, unless already done.

(g) Retained Inspection and Corrective Actions With Revised Service Information

This paragraph restates the requirements of paragraph (e) of AD 2015-26-01, with revised service information. Within 110 hours time in service after January 26, 2016 (the effective date of AD 2015-26-01), do the actions specified in paragraph (g)(1) or (2) of this AD, as applicable for your model helicopter.

(1) For Model AS332C1, AS332L1, AS332L2, and EC225LP helicopters:

(i) Inspect the cabin and cockpit for labels, placards, or markings that prohibit stowing anything under the seats in the locations shown in the figure in the Appendix of Airbus Helicopters Alert Service Bulletin No. AS332-01.00.85 or No. EC225-04A012, both Revision 0, dated August 26, 2014; or Airbus Helicopters Alert Service Bulletin No. AS332-01.00.85, Revision 1, dated September 7, 2017, or Airbus Helicopters Alert Service Bulletin No. EC225-04A012, Revision 2, dated November 6, 2019; as applicable for your model helicopter.

(ii) If a label, placard, or marking is not located in every location depicted in the figure in the Appendix of Airbus Helicopters Alert Service Bulletin No. AS332-01.00.85 or No. EC225-04A012, both Revision 0, dated August 26, 2014; or Airbus Helicopters Alert Service Bulletin No. AS332-01.00.85, Revision 1, dated September 7, 2017, or Airbus Helicopters Alert Service Bulletin No. EC225-04A012, Revision 2, dated November 6, 2019 or is not visible and legible to every occupant, before further flight, install a placard in accordance with the Accomplishment Instructions, paragraph 3.B., of Airbus Helicopters Alert Service Bulletin No. AS332-01.00.85 or No. EC225-04A012, both Revision 0, dated August 26, 2014; or Airbus Helicopters Alert Service Bulletin No. AS332-01.00.85, Revision 1, dated September 7, 2017, or Airbus Helicopters Alert Service Bulletin No. EC225-04A012, Revision 2, dated November 6, 2019; as applicable for your model helicopter.

(2) For Model AS-365N2, AS 365 N3, EC 155B, and EC155B1 helicopters:

(i) Inspect each seat leg in the cabin and cockpit for labels, placards, or markings that prohibit stowing anything under the seats.

(ii) If a label, placard, or marking does not exist on one leg of each seat or is not visible and legible, before further flight, install a placard in accordance with the Accomplishment Instructions, paragraph 3.B., and the Appendix of Airbus Helicopters Alert Service Bulletin No. AS365-01.00.66 or No. EC155-04A013, both Revision 0, dated August 26, 2014; or Airbus Helicopters Alert Service Bulletin No. AS365-01.00.66 or No. EC155-04A013, both Revision 1, dated February 12, 2019; as applicable for your model helicopter.

(h) New Inspection and Corrective Actions for Certain Helicopters

(1) For Model AS332C and AS332L helicopters: Within 110 hours time in service or 30 days, whichever occurs first, after the effective date of this AD, inspect the cabin and cockpit for labels, placards, or markings that prohibit stowing anything under the seats in the locations shown in the figure in the Appendix of Airbus Helicopters Alert Service Bulletin No. AS332-01.00.85, Revision 1, dated September 7, 2017.

(2) If a label, placard, or marking is not located in every location depicted in the figure in the Appendix of Airbus Helicopters Alert Service Bulletin No. AS332-01.00.85, Revision 1, dated September 7, 2017 or is not visible and legible to every occupant, before further flight, install a placard in accordance with the Accomplishment Instructions, paragraph 3.B., of Airbus Helicopters Alert Service Bulletin No. AS332-01.00.85, Revision 1, dated September 7, 2017.

(i) New Requirements of This AD: Modification (Install New Placards)

(1) At the applicable times specified in paragraph (i)(2) of this AD, install new placards prohibiting stowage of any object under an energy-absorbing seat in accordance with the Accomplishment Instructions, paragraph 3.B., of the applicable service information specified in paragraphs (i)(1)(i) through (vii) of this AD, except you are not required to discard the old labels (placards). Doing the installation required by this paragraph terminates the requirements of paragraphs (g) and (h) of this AD.

(i) Airbus Helicopters Alert Service Bulletin No. AS332-25.03.16, Revision 0, dated September 7, 2017.

(ii) Airbus Helicopters Alert Service Bulletin No. AS332-25.03.41, Revision 0, dated September 7, 2017.

(iii) Airbus Helicopters Alert Service Bulletin No. AS332-25.03.42, Revision 0, dated September 7, 2017.

(iv) Airbus Helicopters Alert Service Bulletin No. AS365-25.01.67, Revision 0, dated February 12, 2019.

(v) Airbus Helicopters Alert Service Bulletin No. EC155-25A144, Revision 0, dated February 12, 2019.

(vi) Airbus Helicopters Alert Service Bulletin No. EC225-25A179, Revision 1, dated November 6, 2019.

(vii) Airbus Helicopters Alert Service Bulletin No. EC225-25A203, Revision 0, dated September 7, 2017; as applicable for your model helicopter.

(2) At the applicable times specified in paragraph (i)(2)(i) or (ii) of this AD, do the installation required by paragraph (i)(1) of this AD.

(i) For Model AS332C, AS332C1, AS332L, AS332L1, AS332L2, AS-365N2, AS 365 N3, EC 155B, EC155B1, and EC225LP helicopters, all manufacturer serial numbers, except Model EC225LP helicopters, manufacturer serial numbers 2663, 2670, 2854, 2883, 2885, 2901 and 2921: Within 110 hours time in service or 6 months, whichever occurs first after the effective date of this AD.

(ii) For Model EC225LP helicopters, manufacturer serial numbers 2663, 2670, 2854, 2883, 2885, 2901 and 2921: Within 50 hours time in service or 2 months, whichever occurs first after the effective date of this AD.

(j) No Actions Required for Certain Helicopters

For Model AS332C, AS332C1, AS332L, AS332L1, AS332L2, and EC225LP helicopters delivered after September 7, 2017: No actions are required, provided that no energy-absorbing seat, as identified in figure 1 to paragraph (c) of this AD, has been installed on that helicopter since delivery.

(k) Credit for Previous Actions

(1) This paragraph provides credit for the actions specified in paragraph (g) of this AD, if those actions were performed before the effective date of this AD using Airbus Helicopters Alert Service Bulletin No. EC225-04A012, Revision 1, dated September 7, 2017.

(2) This paragraph provides credit for the actions specified in paragraphs (i)(1) and (2) of this AD, if those actions were performed before the effective date of this AD using Airbus Helicopters Alert Service Bulletin No. EC225-25A179, Revision 0, dated September 7, 2017.

(l) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the International Validation Branch, send it to the attention of the person identified in paragraph (m)(2) of this AD. Information may be emailed to: 9-AVS-AIR-730-AMOC@faa.gov. Before using any approved AMOC, notify your appropriate principal inspector, or lacking a principal inspector, the manager of the local flight standards district office/certificate holding district office.

(2) For operations conducted under a 14 CFR part 119 operating certificate or under 14 CFR part 91, subpart K, notify your principal inspector or lacking a principal inspector, the manager of the local flight standards district office or certificate holding district office, before operating any aircraft complying with this AD through an AMOC.

(m) Related Information

(1) The subject of this AD is addressed in European Union Aviation Safety Agency (EASA) AD 2019-0088R1, dated November 8, 2019. This EASA AD may be found in the AD docket on the internet at https://www.regulations.gov by searching for and locating Docket No. FAA-2020-0905.

(2) For more information about this AD, contact Kathleen Arrigotti, Aviation Safety Engineer, Large Aircraft Section, International Validation Branch, FAA, 2200 South 216th St., Des Moines, WA 98198; phone and fax: 206-231-3218; email: kathleen.arrigotti@faa.gov.

(3) Service information identified in this AD that is not incorporated by reference is available at the addresses specified in paragraphs (n)(5) and (6) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 5, 2021.

(i) Airbus Helicopters Alert Service Bulletin No. AS332-01.00.85, Revision 1, dated September 7, 2017.

(ii) Airbus Helicopters Alert Service Bulletin No. AS332-25.03.16, Revision 0, dated September 7, 2017.

(iii) Airbus Helicopters Alert Service Bulletin No. AS332-25.03.41, Revision 0, dated September 7, 2017.

(iv) Airbus Helicopters Alert Service Bulletin No. AS332-25.03.42, Revision 0, dated September 7, 2017.

(v) Airbus Helicopters Alert Service Bulletin No. AS365-01.00.66, Revision 1, dated February 12, 2019.

(vi) Airbus Helicopters Alert Service Bulletin No. AS365-25.01.67, Revision 0, dated February 12, 2019.

(vii) Airbus Helicopters Alert Service Bulletin No. EC155-04A013, Revision 1, dated February 12, 2019.

(viii) Airbus Helicopters Alert Service Bulletin No. EC155-25A144, Revision 0, dated February 12, 2019.

(ix) Airbus Helicopters Alert Service Bulletin No. EC225-04A012, Revision 2, dated November 6, 2019.

(x) Airbus Helicopters Alert Service Bulletin No. EC225-25A179, Revision 1, dated November 6, 2019.

(xi) Airbus Helicopters Alert Service Bulletin No. EC225-25A203, Revision 0, dated September 7, 2017.

(4) The following service information was approved for IBR on January 26, 2016 (80 FR 79466, December 22, 2015).

(i) Airbus Helicopters Alert Service Bulletin No. AS332-01.00.85, Revision 0, dated August 26, 2014.

(ii) Airbus Helicopters Alert Service Bulletin No. AS365-01.00.66, Revision 0, dated August 26, 2014.

(iii) Airbus Helicopters Alert Service Bulletin No. EC155-04A013, Revision 0, dated August 26, 2014.

(iv) Airbus Helicopters Alert Service Bulletin No. EC225-04A012, Revision 0, dated August 26, 2014.

(5) For Airbus Helicopters service information identified in this AD, contact Airbus Helicopters, 2701 N Forum Drive, Grand Prairie, TX 75052; phone: 972-641-0000 or 800-232-0323; fax: 972-641-3775; or at https://www.airbus.com/helicopters/services/technical-support.html.

(6) You may view this service information at the FAA, Office of the Regional Counsel, Southwest Region, 10101 Hillwood Pkwy., Room 6N-321, Fort Worth, TX 76177. For information on the availability of this material at the FAA, call 817-222-5110.

(7) You may view this service information that is incorporated by reference at the National Archives and Records Administration (NARA). For information on the availability of this material at NARA, email fedreg.legal@nara.gov, or go to: https://www.archives.gov/federal-register/cfr/ibr-locations.html.

Issued on January 4, 2021.
Lance T. Gant,
Director, Compliance & Airworthiness Division, Aircraft Certification Service.

[FR Doc. 2021-03688 Filed 3-1-21; 8:45 am]

BILLING CODE 4910-13-P